DEPARTMENT OF TRANSPORTATION

Federal Aviation Administration

14 CFR Part 39

[Docket No. FAA-2012-1155; Directorate Identifier 2012-NM-115-AD]

RIN 2120-AA64

Airworthiness Directives; Bombardier, Inc. Airplanes

AGENCY: Federal Aviation Administration (FAA), DOT.

ACTION: Notice of proposed rulemaking (NPRM).

SUMMARY: We propose to adopt a new airworthiness directive (AD) for certain Bombardier, Inc. Model DHC-8-400 series airplanes. This proposed AD was prompted by reports of chafing found on the main landing gear (MLG) yoke. The chafing was attributed to contact between the nacelle fire detection wires and the MLG yoke. This proposed AD would require inspections of the nacelle fire detection wires and the MLG yoke for damage; replacing nacelle fire detection wires, if necessary; repairing the MLG yoke, if necessary; and installing new brackets and associated hardware to secure the fire detection wires. We are proposing this AD to prevent chafing between the nacelle fire detection wires and the MLG yoke. Chafing could lead to cracking and subsequent failure of the MLG yoke, which could adversely affect the safe landing of the airplane. In addition, chafing of the nacelle fire detection wires could cause them to fail and prevent the detection of a fire in the nacelle assembly.

DATES: We must receive comments on this proposed AD by December 20, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Bombardier, Inc., Q-Series Technical Help Desk, 123 Garratt Boulevard, Toronto, Ontario M3K 1Y5, Canada; telephone 416-375-4000; fax 416-375-4539; email thd.qseries@aero.bombardier.com; Internet http://www.bombardier.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Assata Dessaline, Aerospace Engineer, Avionics and Services Branch, ANE-171, FAA, New York Aircraft Certification Office (ACO), 1600 Stewart Avenue, Suite 410, Westbury, New York 11590; telephone (516) 228-7301; fax (516) 794-5531.

SUPPLEMENTARY INFORMATION:

Comments Invited

We invite you to send any written relevant data, views, or arguments about this proposal. Send your comments to an address listed under the ADDRESSES section. Include “Docket No. FAA-2012-1155; Directorate Identifier 2012-NM-115-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

Transport Canada Civil Aviation (TCCA), which is the aviation authority for Canada, has issued Canadian Airworthiness Directive CF-2012-15, dated April 30, 2012 (referred to after this as “the MCAI”), to correct an unsafe condition for the specified products. The MCAI states:

There have been two (2) in-service reports of chafing found on the main landing gear (MLG) yoke. The chafing was attributed to contact between the nacelle fire detection wire and the MLG yoke. This chafing may lead to cracking and subsequent failure of the MLG yoke.

Failure of the MLG yoke could adversely affect the safe landing of the aeroplane. In addition, failure of the fire detection wire could prevent the detection of a fire in the nacelle assembly.

This [Canadian] Airworthiness Directive (AD) mandates the [detailed] inspection of the nacelle fire detection wires and [detailed inspection of the] MLG yoke for damage [chafing, nicks, cracking] and the installation of new brackets to secure the fire detection wire to prevent chafing against the MLG yoke [and corrective actions if necessary].

Corrective actions include replacing damaged wires with new wires and repairing the MLG yoke. You may obtain further information by examining the MCAI in the AD docket.

Relevant Service Information

Bombardier, Inc. has issued Service Bulletin 84-26-11, Revision A, dated January 25, 2012. The actions described in this service bulletin are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This Proposed AD and the MCAI or Service Information

Although the MCAI specifies to contact the manufacturer for instructions to repair certain conditions, this proposed AD would require repairing those conditions using a method approved by either the Manager, New York Aircraft Certification Office (ACO), ANE-170, FAA; or TCCA (or its delegated agent).

Costs of Compliance

Based on the service information, we estimate that this proposed AD would affect about 80 products of U.S. registry. We also estimate that it would take about 3 work-hours per product to comply with the basic requirements of this proposed AD. The average labor rate is $85 per work-hour. Required parts would cost about $332 per product. Where the service information lists required parts costs that are covered under warranty, we have assumed that there will be no charge for these parts. As we do not control warranty coverage for affected parties, some parties may incur costs higher than estimated here. Based on these figures, we estimate the cost of the proposed AD on U.S. operators to be $46,960, or $587 per product.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Bombardier, Inc.: Docket No. FAA-2012-1155; Directorate Identifier 2012-NM-115-AD.

(a) Comments Due Date

We must receive comments by December 20, 2012.

(b) Affected ADs

None.

(c) Applicability

This AD applies to Bombardier, Inc. Model DHC-8-400, -401, and -402 airplanes; certificated in any category; serial numbers 4001 through 4382 inclusive.

(d) Subject

Joint Aircraft System Component (JASC)/Air Transport Association (ATA) of America Code 26, Fire protection.

(e) Reason

This AD was prompted by reports of chafing found on the main landing gear (MLG) yoke. We are issuing this AD to prevent chafing between the nacelle fire detection wires and the MLG yoke. Chafing could lead to cracking and subsequent failure of the MLG yoke, which could adversely affect the safe landing of the airplane. In addition, chafing of the nacelle fire detection wires could cause them to fail and prevent the detection of a fire in the nacelle assembly.

(f) Compliance

You are responsible for having the actions required by this AD performed within the compliance times specified, unless the actions have already been done.

(g) Inspections and Installation

Within 6,000 flight hours or 36 months after the effective date of this AD, whichever occurs first, accomplish the actions specified in paragraphs (g)(1), (g)(2), and (g)(3) of this AD, in accordance with the Accomplishment Instructions of Bombardier Service Bulletin 84-26-11, Revision A, dated January 25, 2012.

(1) Do a detailed inspection of the left and right nacelle fire detection wires for damage (i.e., chafing), in accordance with the Accomplishment Instructions of Bombardier Service Bulletin 84-26-11, Revision A, dated January 25, 2012. If damage is found on any nacelle fire detection wire: Before further flight, remove and replace the damaged wire with a new wire, in accordance with the Accomplishment Instructions of Bombardier Service Bulletin 84-26-11, Revision A, dated January 25, 2012.

(2) Do a detailed inspection of the MLG yoke for damage (e.g., chafing, nicks, cracking).

(i) If any damage is found within the limitations specified in Figure 8 of Bombardier Service Bulletin 84-26-11, Revision A, dated January 25, 2012: Before further flight, repair the MLG yoke, in accordance with Figure 9, steps 1 through 10, of Bombardier Service Bulletin 84-26-11, Revision A, dated January 25, 2012.

(ii) If any damage exceeds the limitations specified in Figure 8 of Bombardier Service Bulletin 84-26-11, Revision A, dated January 25, 2012: Before further flight, repair the MLG yoke using a method approved by either the Manager, New York Aircraft Certification Office (ACO), ANE-170, FAA; or Transport Canada Civil Aviation (or its delegated agent). The approved repair must specifically reference this AD.

(3) Install new brackets and associated hardware, in accordance with the Accomplishment Instructions of Bombardier Service Bulletin 84-26-11, Revision A, dated January 25, 2012.

(h) Credit for Previous Actions

This paragraph provides credit for actions required by paragraphs (g)(1), (g)(2), and (g)(3) of this AD, if those actions were performed before the effective date of this AD using Bombardier Service Bulletin 84-26-11, dated December 19, 2011.

(i) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

(1) Refer to MCAI Canadian Airworthiness Directive CF-2012-15, dated April 30, 2012; and Bombardier Service Bulletin 84-26-11, Revision A, dated January 25, 2012; for related information.

(2) For service information identified in this AD, contact Bombardier, Inc., Q-Series Technical Help Desk, 123 Garratt Boulevard, Toronto, Ontario M3K 1Y5, Canada; telephone 416-375-4000; fax 416-375-4539; email thd.qseries@aero.bombardier.com; Internet http://www.bombardier.com. You may review copies of the referenced service information at the FAA, Transport Airplane Directorate, 1601 Lind Avenue SW., Renton, Washington. For information on the availability of this material at the FAA, call 425-227-1221.

Issued in Renton, Washington, on October 24, 2012.
Kalene C. Yanamura,
Acting Manager, Transport Airplane Directorate, Aircraft Certification Service.

[FR Doc. 2012-26940 Filed 11-2-12; 8:45 am]

BILLING CODE 4910-13-P